DEPARTMENT OF STATE

[Public Notice 6136]

In the Matter of the Designation of al-Shabaab, aka al-Shabab, aka Shabaab, aka the Youth, aka Mujahidin Al-Shabaab Movement, aka Mujahideen Youth Movement, aka Mujahidin Youth Movement, aka MYM, aka Harakat Shabab al-Mujahidin, aka Hizbul Shabaab, aka Hisb'ul Shabaab, aka al-Shabaab al-Islamiya, aka Youth Wing, aka al-Shabaab al-Islaam, aka al-Shabaab al-Jihaad, aka the Unity of Islamic Youth, as a Foreign Terrorist Organization pursuant to Section 219 of the Immigration and Nationality Act, as Amended

Based upon a review of the Administrative Record assembled in this matter, and in consultation with the Attorney General and the Secretary of the Treasury, I conclude that there is a sufficient factual basis to find that the relevant circumstances described in section 219 of the Immigration and Nationality Act, as amended (hereinafter “INA”) (8 U.S.C. 1189), exist with respect to al-Shabaab (aka al-Shabab, aka Shabaab, aka the Youth, aka Mujahidin al-Shabaab Movement, aka Mujahideen Youth Movement, aka Mujahidin Youth Movement, aka MYM, aka Harakat Shabab al-Mujahidin, aka Hizbul Shabaab, aka Hisb'ul Shabaab, aka al-Shabaab al-Islamiya, aka Youth Wing, aka al Shabaab al-Islaam, aka al-Shabaab al-Jihaad, aka the Unity of Islamic Youth).

Therefore, I hereby designate that organization and its aliases as a foreign terrorist organization pursuant to section 219 of the INA.

This designation shall be published in the Federal Register.

Dated: February 26, 2008.
Condoleezza Rice,
Secretary of State, Department of State.

[FR Doc. E8-5444 Filed 3-17-08; 8:45 am]

BILLING CODE 4710-10-P